DEPARTMENT OF THE INTERIOR

National Park Service

Notice of Intent to Repatriate a Cultural Item in the Possession of the Logan Museum of Anthropology, Beloit College, Beloit, WI

AGENCY: National Park Service, Interior.

ACTION: Notice.

Notice is hereby given in accordance with the Native American Graves Protection and Repatriation Act (NAGPRA), 43 CFR 10.10 (a)(3), of the intent to repatriate a cultural item in the possession of the Logan Museum of Anthropology that meets the definition of “sacred object” and “object of cultural patrimony” under Section 2 of the Act.

This notice is published as part of the National Park Service’s administrative responsibilities under NAGPRA, 43 CFR 10.2 (c). The determinations within this notice are the sole responsibility of the museum, institution, or Federal agency that has control of these cultural items. The National Park Service is not responsible for the determinations within this notice.

The cultural item is a bear headdress (Xoots Shakee.at). It is comprised of an ermine fur crown decorated around the edge with sea-lion whiskers and red and yellow shafted flicker feathers. The carved wooden frontlet represents a bear whose breast and abdomen are decorated with the head of an eagle and the head and front legs of a frog. The carving is painted red, black, blue, and green and is inlaid with abalone shell along the top and along each side of the bear crest. The interior frame of the headdress is constructed of wood and whalebone and lined with cotton cloth.

Accession and catalogue records of the Logan Museum of Anthropology and the Portland Art Museum indicate that the bear headdress was collected by Axel Rasmussen in Alaska between 1926 and 1936. Mr. Rasmussen went to Alaska in the late 1920s as superintendent of schools at Wrangell. In 1937, he left Wrangell for a similar position in Skagway, where he stayed until his death in 1945. The headdress was probably collected while he was in Wrangell, as the date marked on the collector’s catalogue card predates his tenure in Skagway. In 1948, his art collection was donated to the Portland Art Museum, which sold the headdress to the St. Paul Gallery in St. Paul, MN, in 1959. Rev. Glen Ridenour purchased the headdress from the St. Paul Gallery at an unknown date and sold it to the Logan Museum of Anthropology in 1964.

Consultations with and documentation provided by representatives of the Central Council of Tlingit and Haida Indian Tribes acting on behalf of the Teikweidi Clan of the Tlingit confirm the Tlingit identity of this cultural item, and the Teikweidi Clan of the Tlingit as the rightful custodians of this item. Central Council of Tlingit and Haida Indian Tribes representatives have provided evidence that the headdress is needed for religious ceremonies by the clan, and that the headdress has ongoing historical, traditional, and cultural importance to the Tlingit people, and to the Teikweidi Clan in particular, and that under the Tlingit system of communal property ownership, this cultural item could not have been alienated, appropriated, or conveyed by any individual.

Based on the above-mentioned information, officials of the Logan Museum of Anthropology have determined that, pursuant to 43 CFR 10.2 (d)(3), this cultural item is a ceremonial object needed by traditional Native American religious leaders for the practice of traditional Native American religions by their present-day adherents. Officials of the Logan Museum of Anthropology also have determined that, pursuant to 43 CFR 10.2 (d)(4), this cultural item has ongoing historical, traditional, and cultural importance to the clan itself and is of such central importance that it could not have been alienated, appropriated, or conveyed by any individual. Lastly, officials of the Logan Museum of Anthropology have determined that, pursuant to 43 CFR 10.2(e), there is a relationship of shared group identity that can be reasonably traced between this sacred object/object of cultural patrimony and the Teikweidi Clan of the Tlingit tribe, whose interests are represented here by the Central Council of Tlingit and Haida Indian Tribes.

This notice has been sent to officials of the Central Council of Tlingit and Haida Indian Tribes. Representatives of any other Indian tribe that believes itself to be culturally affiliated with this object should contact William Green, Director, Logan Museum of Anthropology, Beloit College, 700 College St., Beloit, WI 53511, telephone (608) 363-2119 before August 12, 2002. Repatriation of this sacred object/object of cultural patrimony to the Central Council of Tlingit and Haida Indian Tribes may begin after that date if no additional claimants come forward.

Dated: June 19, 2002
Robert Stearns,
Manager, National NAGPRA Program.

[FR Doc. 02-17414 Filed 7-10-02; 8:45 am]

BILLING CODE 4310-70-S